COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products from the Procurement List that that were previously furnished by nonprofit agencies employing persons who are blind or have other severe disabilities.

DATES: Comments must be received on or before: January 7, 2018.

ADDRESSES: Committee for Purchase From People Who Are Blind or Severely Disabled, 1401 S. Clark Street, Suite 715, Arlington, Virginia, 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products are proposed for deletion from the Procurement List:

Products

NSN(s)—Product Name(s):

7510-00-NIB-1784—Portfolio Pad Holder, with Pad, Custom Logo & Color, 4″ x 6″

7510-00-NIB-1785—Portfolio Pad Holder, with pad, Custom Logo & Color, 6″ x 9″

Mandatory Source(s) of Supply: Alphapointe, Kansas City, MO

Contracting Activity: General Services Administration, New York, NY

NSN(s)—Product Name(s):

7510-01-642-8626—Kit, Maintenance, Remanufactured, Toner Cartridge, Lexmark T620/620N Series Compatible

7510-01-633-7855—Toner Cartridge, Remanufactured, Lexmark E230/E232/E234/E330/E332/E340/E342 Series Compatible

7510-01-633-7853—Toner Cartridge, Remanufactured, Lexmark Optra T620/T622 Series Compatible

7510-01-641-9550—Toner Cartridge, Remanufactured Lexmark Optra T630/T632/T634 Series Compatible

7510-01-560-6576—Remanufactured HP LJ Toner Cartridge—OEM C3909A

7510-01-560-6233—Remanufactured HP LJ Toner Cartridge—OEM C7115X

Mandatory Source(s) of Supply: TRI Industries NFP, Vernon Hills, IL

Contracting Activity: General Services Administration, New York, NY

Amy B. Jensen,
Director, Business Operations.

[FR Doc. 2017-26503 Filed 12-7-17; 8:45 am]

BILLING CODE 6353-01-P